DEPARTMENT OF THE INTERIOR

Bureau of Land Management

[LLAZ9120000 L12200000 AL0000 6100.241A0]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on March 26, 2009, at the BLM National Training Center located at 9828 North 31st Avenue in Phoenix from 8 a.m. until 4:30 p.m. Morning agenda items include: Review and approval of the September 18, 2008, meeting minutes for RAC and Recreation Resource Advisory Council (RRAC) business; BLM State Director's update on statewide issues; Update on Solar Energy Rights-of-Way Applications; Presentation on the Healthy Lands Initiative Projects and Wild Horse and Burro Program in Arizona; RAC questions on BLM Field Managers' Rangeland Resource Team proposals; and reports by RAC working groups. A public comment period will be provided at 11:30 a.m. on March 26, 2009, for any interested publics who wish to address the Council on BLM programs and business.

Under the Federal Lands Recreation Enhancement Act, the RAC has been designated as the RRAC, and has the authority to review all BLM and Forest Service (FS) recreation fee proposals in Arizona. The afternoon meeting agenda on March 26, will include a presentation on the Federal Lands Recreation Enhancement Act requirements, a review and discussion of the Recreation Enhancement Act (REA) Working Group Report, future BLM/FS recreation fee proposals and REA Working Group meeting schedule.

DATES: Effective Date: March 26, 2009.

FOR FURTHER INFORMATION CONTACT: Deborah Stevens, Bureau of Land Management, Arizona State Office, One North Central Avenue, Suite 800, Phoenix, Arizona 85004-4427, 602-417-9504.

Helen Hankins,
Acting Arizona State Director.

[FR Doc. E9-4212 Filed 2-26-09; 8:45 am]

BILLING CODE 4310-32-P